DEPARTMENT OF JUSTICE

National Institute of Justice

[OJP (NIJ) Docket No. 1665]

License Plate Reader Manufacturer Practical Assessment of Proposed Test Methods

AGENCY: National Institute of Justice, Department of Justice.

ACTION: Notice of License Plate Reader Manufacturer Practical Assessment of Proposed Test Methods.

SUMMARY: The National Institute of Justice (NIJ) is inviting manufacturers of vehicle-mounted license plate reader (LPR) systems to participate in a practical assessment of the proposed test methods in the tentatively titled Vehicle-mounted License Plate Recognition Systems for Law Enforcement standard under development.

DATES: Manufacturers wishing to participate must register with the International Association of Chiefs of Police no later than Friday, August 8, 2014, as instructed below. Test evaluations will take place over two days, Tuesday, August 19, 2014, and Wednesday, August 20, 2014, with a rain date of Thursday, August 21, 2014, from 10:00 a.m. to 4:00 p.m. The test facility will be available for manufacturers to view the test setup and prepare their vehicles from 9:00 to 10:00 a.m.

ADDRESSES: Location: U.S. Customs and Border Protection Government Test Lane Facility (GTLF) in Fredericksburg, Virginia. Directions to the facility will be provided upon registration.

FOR FURTHER INFORMATION CONTACT: Manufacturers wishing to participate must register with the International Association of Chiefs of Police by August 8, 2014. To register for the LPR manufacturer practical assessment, please contact Michael Fergus at fergus@theiacp.org.

For information about the NIJ Vehicle-mounted License Plate Recognition Systems for Law Enforcement under development, please contact Mark Greene, by telephone at (202) 307-3384 [Note: this is not a toll-free telephone number], or by email at mark.greene2@usdoj.gov. For general information about NIJ standards, please visit http://www.nij.gov/standards or http://www.justnet.org/standards.

SUPPLEMENTARY INFORMATION: The National Institute of Justice (NIJ) is inviting manufacturers of vehicle-mounted license plate reader (LPR) systems to participate in a practical assessment of the proposed test methods in the tentatively titled Vehicle-mounted License Plate Recognition Systems for Law Enforcement standard under development. The development of this draft NIJ standard is being facilitated by IACP with support from and in coordination with NIJ under cooperative agreement 2009-IJ-CX-K009. It contains several practical tests to determine the performance of vehicle-mounted LPR systems regarding four specific functions: detection of plates, capture of images of the plates, interpretation and conversion of images into alphanumeric data, and comparison of data with a list of specified license plates (e.g., a watch list). The tests are performed using license plates set up to mimic the different common parking configurations: parallel, perpendicular, and diagonal.

The practical assessment is primarily intended to allow LPR manufacturers to familiarize themselves with tests for vehicle-mounted LPR systems in the draft NIJ standard and develop any feedback regarding those tests. Manufacturers are invited to bring a vehicle equipped with a mobile LPR system to the U.S. Customs and Border Protection Government Test Lane Facility (GTLF) in Fredericksburg, Virginia. The assessment will take place over two days (see dates above). Manufacturers will be permitted to run through the test setups in an equitable fashion as time permits for the two days depending on the number of respondents to this notice.

Space is limited at the GTLF, and as a result, each manufacturer will only be allowed to bring one test vehicle. Neither NIJ nor IACP will collect any data from any manufacturer from the practical assessment. Manufacturers are encouraged to submit any feedback regarding the test methods as result of the two-day practical assessment during the forthcoming public comment period for the draft NIJ standard tentatively titled Vehicle-mounted License Plate Recognition Systems for Law Enforcement.

Gregory K. Ridgeway,
Acting Director, National Institute of Justice.

[FR Doc. 2014-16211 Filed 7-10-14; 8:45 am]

BILLING CODE 4410-18-P